FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement No.: 010099-041.

Title: International Council of Containership Operators.

Parties: A.P. Moller-Maersk Sealand; ANL Container Line Pty Ltd.; Limited; American President Lines, Ltd.; APL Co. PTE Ltd.; APL Limited; Atlantic Container Line AB; Australia-New Zealand Direct Line; Canada Maritime Limited; Cast Line Limited; China Shipping Container Lines Co., Ltd.; CMA CGM, S.A.; Companhia Libra de Navegacao; Compania Sud-Americana de Vapores S.A.; Contship Containerlines; Cosco Container Lines Company Limited; CP Ships; Crowley Maritime Corporation; Delmas SAS; Evergreen Marine Corporation, Ltd.; Hamburg-Sud; Hanjin Shipping Co., Ltd.; Hapag-Lloyd Container Line GmbH; Hyundai Merchant Marine Co., Ltd.; Italia di Navigazione, LLC; Kawasaki Kisen Kaisha, Ltd.; Lykes Lines Limited, LLC; Malaysian International Shipping Company; Mediterranean Shipping Company S.A.; Mitsui O.S.K. Lines, Ltd.; Montemar Maritima S.A.; Neptune Orient Lines, Ltd.; Nippon Yusen Kaisha; Norasia Container Lines Limited; Orient Overseas Container Line, Limited; Pacific International Lines (PTE) Ltd.; P&O Nedlloyd B.V.; P&O Nedlloyd Limited; Safmarine Container Line N.V.; Senator Lines GmbH; TMM Lines Limited, LLC; United Arab Shipping Company; Yang Ming Transport Marine Corp.; Wan Hai Lines Ltd.; Zim Integrated Shipping Services Ltd. Ltd.

Filing Party: John Longstreth, Esq.; Preston Gates Ellis & Rouvelas Meeds LLP; 1735 New York Avenue, Suite 500; Washington, DC 20006-5209.

Synopsis: The amendment reflects name changes for Zim Israel Navigation Co., Ltd. to Zim Integrated Shipping Services Ltd and for Italia di Navigazione, S.p.A to Italia di Navigazione, LLC.

Agreement No.: 011889.

Title: HMM/SINOLINES Space Charter Agreement.

Parties: Hyundai Merchant Marine Co., Ltd. (“HMM”) and SINOLINES Container Lines Co., Ltd. (“SINOLINES”).

Filing Party: Eliot J. Halperin, Esq.; Manelli Denison & Selter PLLC; 2000 M Street, NW., 7th floor; Washington, DC 20036-3307.

Synopsis: The proposed agreement would authorize SINOLINES to take space on HMM's vessels operating between China, Hong Kong, Taiwan, and Korea, on the one hand, and the U.S. West Coast, on the other hand. The parties request expedited review.

By order of the Federal Maritime Commission.
Dated: August 26, 2004.
Bryant L. VanBrakle,
Secretary.

[FR Doc. 04-19881 Filed 8-31-04; 8:45 am]

BILLING CODE 6730-01-P